DEPARTMENT OF DEFENSE

GENERAL SERVICES ADMINISTRATION

NATIONAL AERONAUTICS AND SPACE ADMINISTRATION

[OMB Control No. 9000-0188; Docket No. 2021-0053; Sequence No. 3]

Information Collection; Combating Trafficking in Persons

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on a revision and renewal concerning combating trafficking in persons. DoD, GSA, and NASA invite comments on: whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through September 30, 2021. DoD, GSA, and NASA propose that OMB extend its approval for use for three additional years beyond the current expiration date.

DATES: DoD, GSA, and NASA will consider all comments received by April 6, 2021.

ADDRESSES: DoD, GSA, and NASA invite interested persons to submit comments on this collection through http://www.regulations.gov and follow the instructions on the site. This website provides the ability to type short comments directly into the comment field or attach a file for lengthier comments. If there are difficulties submitting comments, contact the GSA Regulatory Secretariat Division at 202-501-4755 or GSARegSec@gsa.gov.

Instructions: All items submitted must cite OMB Control No. 9000-0188, Combating Trafficking in Persons. Comments received generally will be posted without change to http://www.regulations.gov, including any personal and/or business confidential information provided. To confirm receipt of your comment(s), please check www.regulations.gov, approximately two-to-three days after submission to verify posting.

FOR FURTHER INFORMATION CONTACT: Ms. Mahruba Uddowla, Procurement Analyst, at telephone 703-605-2868, or mahruba.uddowla@gsa.gov.

SUPPLEMENTARY INFORMATION:

A. OMB control number, Title, and any Associated Form(s): 9000-0188, Combating Trafficking in Persons.

B. Need and Uses

This clearance covers the information that offerors contractors must submit to comply with the following Federal Acquisition Regulation (FAR) requirements:

52.222-50, Combating Trafficking in Persons.

Notification. Paragraph (d) of this clause requires contractors to notify the contracting officer and the agency Inspector General of—

• Any credible information they receive from any source that alleges a contractor employee, subcontractor, or subcontractor employee, or their agent has engaged in conduct that violates the policy in paragraph (b) of the clause 52.222-50; and

• Any actions taken against a contractor employee, subcontractor, subcontractor employee, or their agent pursuant to this clause.

Compliance Plan and Annual Certification. Paragraph (h) of the clause contains an additional requirement for contracts for supplies (other than commercially available off-the-shelf (COTS) items) to be acquired outside the United States and contracts for services to be performed outside the United States, with an estimated value exceeding $550,000, where the contractor is to maintain a compliance plan during the performance of the contract. This compliance plan must include an awareness program, a process for employees to report activity inconsistent with the zero-tolerance policy, a recruitment and wage plan, a housing plan, and procedures to prevent subcontractors from engaging in trafficking in persons.

• Contractors are required to provide the compliance plan to the contracting officer upon request.

• Contractors are required to submit a certification to the contracting officer annually after receiving an award, asserting that they have the required compliance plan in place and that there have been no abuses, or that appropriate actions have been taken if abuses have been found.

• For those subcontractors required to submit a certification (see next bullet on flow down), contractors shall require that submission prior to award of the subcontract and annually thereafter. Portions of this clause flows down to all subcontractors. The requirements related to the compliance plan only flow down to subcontracts exceeding $550,000 for supplies (other than COTS items) acquired and services performed outside the United States.

This clause applies to commercial item acquisitions, except the portions related to the compliance plan do not apply to acquisitions of COTS items.

52.222-56, Certification Regarding Trafficking in Persons Compliance Plan.

This provision requires apparently successful offerors to submit a certification, prior to award, that they have implemented a compliance plan and that there have been no abuses, or that appropriate actions have been taken if abuses have been found.

The provision requires this certification for the portion of contracts exceeding $550,000 for supplies (other than COTS items) acquired and services performed outside the United States.

This provision applies to commercial item acquisitions, except acquisitions of COTS items.

FAR 52.222-50, paragraph (d)—Notification. The Government uses this notification of potential violations of trafficking in persons requirements to investigate and take appropriate action if a violation has occurred.

FAR 52.222-50, paragraph (h)—Compliance Plan. The Government uses the compliance plan to ascertain compliance with the Trafficking Victims Protection Act (22 U.S.C. 7104), Executive Order 13627, Strengthening Protections Against Trafficking in Persons in Federal Contracts dated September 25, 2012 (77 FR 60029, October 2, 2012) and Title XVII of the National Defense Authorization Act for Fiscal Year 2013 (Pub. L. 112-239, enacted January 2, 2013) or any other applicable law or regulation.

FAR 52.222-50, paragraph (h) and FAR 52.222-56—Certification. The Government uses the certification to obtain reasonable assurance that the contractor and its subcontractors are aware of and complying with the requirements of the Executive Order and statute.

C. Annual Burden

Respondents/Recordkeepers: 5,876.

Total Annual Responses: 11,702.

Total Burden Hours: 164,154. (25,722 reporting hours + 138,432 recordkeeping hours)

Obtaining Copies: Requesters may obtain a copy of the information collection documents from the GSA Regulatory Secretariat Division by calling 202-501-4755 or emailing GSARegSec@gsa.gov. Please cite OMB Control No. 9000-0188, Combating Trafficking in Persons.

Janet Fry,
Director, Federal Acquisition Policy Division, Office of Governmentwide Acquisition Policy, Office of Acquisition Policy, Office of Governmentwide Policy.

[FR Doc. 2021-02402 Filed 2-4-21; 8:45 am]

BILLING CODE 6820-EP-P